DEPARTMENT OF ENERGY

Federal Energy Regulatory Commission

[Docket No. CP16-493-000]

Columbia Gas Transmission L.L.C.; Notice of Schedule for Environmental Review of the Central Virginia Connector Project

On August 12, 2016, Columbia Gas Transmission L.L.C. (Columbia) filed an application in Docket No. CP16-493-000 requesting a Certificate of Public Convenience and Necessity pursuant to section 7(c) of the Natural Gas Act to construct and operate certain natural gas pipeline facilities. The proposed project is known as the Central Virginia Connector Project (Project), and would provide an additional 45,000 dekatherms per day of natural gas capacity on Columbia's system and modernize compression at the Louisa Compressor Station.

On August 25, 2016 the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA: February 28, 2017.

90-day Federal Authorization Decision Deadline: May 29, 2017.

If a schedule change becomes necessary, additional notice will be provided so that the relevant agencies are kept informed of the Project's progress.

Project Description

Columbia proposes to replace three Solar Saturn units with one Solar Centaur 50 unit at the existing Louisa Compressor Station, convert the replaced units to standby, increase the certificated horsepower (HP) at the Louisa Compressor Station from 4,050 HP to 6,130 HP, install pipe and valve modifications to make the existing point of delivery between Columbia's Mainline VM-108 and VM-109 at Boswell's Tavern Compressor Station bi-directional, install a new point of delivery meter station adjacent to Columbia's Goochland Compressor Station, and install other appurtenant facilities. All work would be performed in Louisa and Goochland Counties, Virginia.

Background

On September 27, 2016 the Commission issued a Notice of Intent to Prepare an Environmental Assessment for the Proposed Central Virginia Connector Project and Request for Comments on Environmental Issues (NOI). The NOI was sent to affected landowners; federal, state, and local government agencies; elected officials; environmental and public interest groups; Native American tribes; other interested parties; and local libraries and newspapers. In response to the NOI, the Commission received a comment from the Virginia Department of Conservation and Recreation, which recommended strict adherence to the erosion and sediment control measures during all land disturbing activities.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-493), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: January 11, 2017.
Kimberly D. Bose,
Secretary.

[FR Doc. 2017-00985 Filed 1-17-17; 8:45 am]

BILLING CODE 6717-01-P